ENVIRONMENTAL PROTECTION AGENCY

40 CFR Part 52

[EPA-R09-OAR-2012-0853; FRL-9806-4]

Revisions to the California State Implementation Plan, Antelope Valley Air Quality Management District, Santa Barbara County Air Pollution Control District, South Coast Air Quality Management District and Ventura County Air Pollution Control District

AGENCY: Environmental Protection Agency (EPA).

ACTION: Proposed rule.

SUMMARY: EPA is proposing to approve revisions to the Antelope Valley Air Quality Management District (AVAQMD), Santa Barbara County Air Pollution Control District (SBCAPCD), South Coast Air Quality Management District (SCAQMD) and Ventura County Air Pollution Control District (VCAPCD) portions of the California State Implementation Plan (SIP). These revisions concern Volatile Organic Compounds (VOC) emissions from motor vehicle and mobile equipment coating operations and from graphic arts operations. We are approving local rules that regulate these emission sources under the Clean Air Act (“CAA” or “the Act”). We are taking comments on this proposal and plan to follow with a final action.

DATES: Any comments must arrive by May 29, 2013.

ADDRESSES: Submit comments, identified by docket number R09-OAR-2012-0853, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment.

Docket: Generally, documents in the docket for this action are available electronically at www.regulations.gov and in hard copy at EPA Region IX, 75 Hawthorne Street, San Francisco, California. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Adrianne Borgia, EPA Region IX, (415) 972-3576, borgia.adrianne@epa.gov.

SUPPLEMENTARY INFORMATION: Throughout this document, “we,” “us” and “our” refer to EPA.

Table of Contents

I. The State's Submittal

A. What rules did the State submit?

B. Are there other versions of these rules?

C. What is the purpose of the submitted rules?

II. EPA's Evaluation and Action

A. How is EPA evaluating these rules?

B. Do the rules meet the evaluation criteria?

C. EPA Recommendations to Further Improve the Rules.

D. Public Comment and Final Action

III. Statutory and Executive Order Reviews

I. The State's Submittal

A. What rules did the State submit?

Table 1 lists the rules addressed by this proposal with the dates that they were amended or revised by the local air agency and submitted by the California Air Resources Board (CARB).

Table 1—Submitted Rules
Local agency | Rule No. | Rule title | Amended/revised | Submitted
AVAQMD | 1151 | Motor Vehicle and Mobile Equipment Coating Operations | Amended 6/19/12 | 9/21/12
SBCAPCD | 339 | Motor Vehicle and Mobile Equipment Coating Operations | Revised 6/19/08 | 10/20/08
SCAQMD | 1151 | Motor Vehicle and Mobile Equipment Non-Assembly Line Coating Operations | Amended 12/2/05 | 4/6/09
VCAPCD | 74.18 | Motor Vehicle and Mobile Equipment Coating Operations | Revised 11/11/08 | 3/17/09
VCAPCD | 74.19 | Graphic Arts | Revised 6/14/11 | 9/27/11

On October 11, 2012 for AVAQMD Rule 1151, November 18, 2008 for SBCAPCD Rule 339, May 13, 2009 for SCAQMD Rule 1151, April 20, 2009 for VCAPCD Rule 74.18 and October 24, 2011 for VCAPCD Rule 74.19, EPA determined that the submittals met the completeness criteria in 40 CFR Part 51 Appendix V, which must be met before formal EPA review.

B. Are there other versions of these rules?

We approved an earlier version of the following rules into the SIP: AVAQMD Rule 1151 on April 10, 2000 (65 FR 18901), SBCAPCD Rule 339 on November 13, 1998 (63 FR 63410), SCAQMD Rule 1151 on May 26, 2000 (65 FR 34101), VCAPCD Rule 74.18 on April 19, 2001 (66 FR 20086) and VCAPCD Rule 74.19 on October 25, 1005 (70 FR 61561).

C. What is the purpose of the submitted rules?

VOCs help produce ground-level ozone and smog, which harm human health and the environment. Section 110(a) of the CAA requires States to submit regulations that control VOC emissions. AVAQMD rule 1151, SBCAPCD rule 339, SCAQMD rule 1151 and VCAPCD rule 74.18 are rules that regulate VOC emissions from automotive and mobile equipment coating operations. VCAPCD rule 74.19 regulates VOC emissions from graphic arts operations. EPA's technical support documents (TSDs) have more information about these rules.

II. EPA's Evaluation and Action

A. How is EPA evaluating the rules?

Generally, SIP rules must be enforceable (see section 110(a) of the Act), must require Reasonably Available Control Technology (RACT) for each category of sources covered by a Control Techniques Guidelines (CTG) document as well as each major source in nonattainment areas (see sections 182(a)(2) and (b)(2)), and must not relax existing requirements (see sections 110(l) and 193). AVAQMD, SCQAMD and VCAPCD regulate ozone nonattainment areas (see 40 CFR part 81), so Rules AVAQMD 1151, SCQAMD 1151, VCAPCD 74.18 and VCAPCD 74.19 must fulfill RACT.

Guidance and policy documents that we use to evaluate enforceability and RACM/RACT requirements consistently include the following:

1. “Issues Relating to VOC Regulation Cutpoints, Deficiencies, and Deviations; Clarification to Appendix D of November 24, 1987 Federal Register Notice,” (Blue Book), notice of availability published in the May 25, 1988 Federal Register.

2. “Guidance Document for Correcting Common VOC & Other Rule Deficiencies,” EPA Region 9, August 21, 2001 (the Little Bluebook).

3. “State Implementation Plans; General Preamble for the Implementation of Title I of the Clean Air Act Amendments of 1990,” 57 FR 13498 (April 16, 1992); 57 FR 18070 (April 28, 1992).

3. “Control Technique Guidelines for Emissions from Automobile Refinishing” (EPA-450/3-88-009), October 1988.

4. CARB Suggested Control Measure (SCM) for “Automotive Coatings” as approved by the Board on October 20, 2005.

5. “Control Techniques Guidelines for Offset Lithographic Printing and Letterpress Printing,” EPA 453/R-06-002, September 2006.

6. “Control Techniques Guidelines for Industrial Cleaning Solvents,” EPA 453/R-06-001, September 2006.

B. Does the rule meet the evaluation criteria?

We believe these rules are consistent with the relevant policy and guidance regarding enforceability, RACM/RACT, and SIP relaxations. The TSDs have more information on our evaluation.

C. EPA Recommendations to Further Improve the Rule

The TSDs describe additional rule revisions that we recommend for the next time the local agencies modify the rules. However, these recommendations are not currently the basis for rule disapproval.

D. Public Comment and Final Action

Because EPA believes the submitted rules fulfill all relevant requirements, we are proposing to fully approve them as described in section 110(k)(3) of the Act. We will accept comments from the public on this proposal for the next 30 days. Unless we receive convincing new information during the comment period, we intend to publish a final approval action that will incorporate these rules into the federally enforceable SIP.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address disproportionate human health or environmental effects with practical, appropriate, and legally permissible methods under Executive Order 12898 (59 FR 7629, February 16, 1994).

In addition, these rules do not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Incorporation by reference, Intergovernmental relations, Ozone, Volatile organic compounds, Reporting and recordkeeping requirements.

Authority: 42 U.S.C. 7401 et seq.

Dated: April 12, 2013.
Jared Blumenfeld,
Regional Administrator, Region IX.

[FR Doc. 2013-10048 Filed 4-26-13; 8:45 am]

BILLING CODE 6560-50-P